DEPARTMENT OF JUSTICE

Immigration and Naturalization Service

8 CFR Part 299

[INS No. 2017-99]

RIN 1115-AF66

Duplication and Electronic Generation of Forms

AGENCY: Immigration and Naturalization Service, Justice.

ACTION: Final rule.

SUMMARY: This rule amends the Immigration and Naturalization Service (Service) regulations regarding duplication and electronic generation of public use forms by public and private entities. This rule eliminates the requirement that duplicated and electronically generated forms be produced on the same color paper and in the same printing configuration that is used for the official Service forms. This rule also removes the requirement that duplicated and electronically generated copies of forms made by public and private entities be submitted for Service review and approval. The Service is eliminating these requirements to make it easier for public and private entities to take advantage of existing technology in the marketplace and on the Service's Internet Website.

DATES: This final rule is effective October 17, 2000.

FOR FURTHER INFORMATION CONTACT: Ann Palmer, Adjudications Officer, Immigration Services Division, Immigration and Naturalization Service, 800 K Street, NW., 10th Floor, Techworld Plaza, Washington, DC 20001; telephone (202) 514-6442.

SUPPLEMENTARY INFORMATION:

Why Does the Service Accept Duplicated and Electronically Generated Forms?

The Service developed standards for accepting electronically generated forms to make it easier for public and private entities to take advantage of the automated technology available in the marketplace to reproduce certain immigration and naturalization forms.

On May 17, 1994, the Service published an interim rule in the Federal Register at 59 FR 25555 providing the standards for acceptance of duplicated and electronically generated forms. On September 11, 1996, the Service published a final rule in the Federal Register at 61 FR 47799, formally adopting these standards.

What Requirements for Acceptance of Duplicated and Electronically Generated Forms Is the Service Removing?

Currently, the standard for acceptance of duplicated and electronically generated forms include the requirements that public or private entities reproduce the forms on: (1) The same color paper; and (2) in the same printing configuration that is used for the official Service forms. Printing configuration means only whether a multi-page form is printed head-to-head or head-to-foot. The Service is removing these two requirements. In addition, the Service is removing the requirement that duplicated and electronically generated public use forms produced by public and private entities be submitted to the Director, Policy Directives and Instructions Branch (HQPDI) for approval.

Why Is the Service Removing These Requirements?

Acceptance of duplicated and electronically generated forms by the Service was intended to be a benefit to the public. The requirements that duplicated and electronically generated forms must be reproduced on the same color paper and in the same printing configuration as the official form was for administrative convenience of the Service in sorting different forms. Unfortunately, the color paper used for some of the official forms is no readily available in the marketplace, and some of the printing configurations of the official forms are difficult to reproduce with standard electronic printers. As a result, it has been difficult for some public and private entities to comply with the standard for acceptance of duplicated and electronically generated forms. This is particularly true for public and private entities that wish to generate forms now available on the Service's Internet Website. Therefore, the Service is eliminating these two requirements to make the use of electronically generated forms more convenient.

In addition, having the Director, HQPDI approve the final form has caused unnecessary delays for public and private entities wishing to duplicate or electronically generate public use forms. As long as public and private entities follow the standards contained in § 299.4, there is not need to submit samples to the Director, HQPDI for approval.

What Changes Is the Service Making to the Regulations?

In § 299.4, paragraphs (a)(2) and (b)(1) are being amended to remove the requirements that private entities electronically generating certain immigration forms reproduce the forms on the same color paper and in the same printing configuration as the official forms. In § 299.4, paragraph (b)(3) is being removed.

Good Cause Exception

The Service's implementation of this rule as a final rule without first publishing a proposed rule is based on the “good cause” exceptions found at 5 U.S.C. 553(b)(B), (d)(1) and (d)(3). The reasons and the necessity for issuing a final rule without prior notice and comment are as follows: This rule removes a restriction and provides a benefit to the public by allowing them to take advantage of existing technology available in the marketplace and on the Service's Internet Website to electronically reproduce certain immigration and naturalization forms. Therefore, issuing this rule as a proposed rule with request for comments would delay implementation and would be unnecessary and contrary to the public interest.

Regulatory Flexibility Act

The Commissioner of the Immigration and Naturalization Service, in accordance with the Regulatory Flexibility Act (5 U.S.C. 605(b)), has reviewed this regulation and, by approving it, certifies that this rule will not have a significant economic impact on a substantial number of small entities. This rule is primarily administrative in nature and is intended to benefit small entities and private individuals by simplifying the requirements that, if followed, would enable them to take advantage of the technology available in the marketplace and on the Service's Internet Website to electronically generate certain immigration and naturalization forms. The number of small entities affected by this rule will not be substantial.

Unfunded Mandates Reform Act of 1995

This rule will not result in the expenditure by State, local and tribal governments, in the aggregate, or by the private sector, of $100 million or more in any 1-year, and it will not significantly or uniquely effect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

This rule is not considered by the Department of Justice, Immigration and Naturalization Service, to be a “significant regulatory action” under Executive Order 12866, section 3(f), Regulatory Planning and Review, and the Office of Management and Budget has waived its review process under section 6(a)(3)(A).

Executive Order 13132

This regulation will not have substantial direct effects on the States, on the relationship between the National Government and the States, or on the distribution of power and responsibilities among the various levels of government. Therefore, in accordance with section 6 of Executive Order 13132, it is determined that this rule does not have sufficient federalism implications to warrant the preparation of a federalism summary impact statement.

Executive Order 12988 Civil Justice Reform

This rule meets the applicable standards set forth in sections 3(a) and 3(b)(2) of Executive Order 12988.

List of Subjects in 8 CFR Part 299

Immigration, Reporting and recordkeeping requirements.

Accordingly, part 299 of chapter I of title 8 of the Code of Federal Regulations is amended as follows:

PART 299—IMMIGRATION FORMS

1. The authority citation for part 299 continues to read as follows:

Authority: 8 U.S.C. 1101, 1103; 8 CFR part 2.

2. Section 299.4, is amended by:

a. Revising paragraph (a)(2)(iv);

b. Revising the seventh sentence in paragraph (b)(1);

c. Removing paragraph (b)(3);

d. Revising the phrase “Room 5307” to “Room 4034” in paragraph (e).

The revisions read as follows:

§ 299.4 Reproduction of Public Use Forms by public and private entities.

(a) * * *

(2) * * *

(iv) Paper specifications (White, standard copier or typing paper).

(b) * * *

(1) * * * An electronic reproduction of a multi page form does not need to match the head-to-head or head-to-foot printing configuration of the official form. * * *

* * * * *

Dated: October 4, 2000.
Doris Meissner,
Commissioner, Immigration and Naturalization Service.

[FR Doc. 00-26621 Filed 10-16-00; 8:45 am]

BILLING CODE 4410-10-M